DEPARTMENT OF DEFENSE

Department of the Army; Corps of Engineers

Intent To Prepare a Draft Environmental Impact Statement for Kentucky River Lock and Dam 10 Stabilization and Renovation Project Boonesborough, KY

AGENCY: Department of the Army, U.S. Army Corps of Engineers, DOD.

ACTION: Notice of intent.

SUMMARY: Authorized by the U.S. Congress for the planning, design and construction assistance for the stabilization and renovation of Kentucky River Lock and Dam 10. Specific language for the work was published in the 106th Congress, 2nd Session, House of Representatives Conference Report (106-1005), 26 October 2000, Section 631. This section authorized the Secretary of the Army to take all necessary measures to further stabilize and renovate Lock and Dam 10 at Boonesborough, Kentucky. The Draft Environmental Impact Statement (DEIS) will assess the potential impacts of the alternatives being considered upon the social, economic and natural resources of the project area.

FOR FURTHER INFORMATION CONTACT: Robert C. Kanzinger at U.S. Army Corps of Engineers, Louisville District, ATTN: CELRL-PM-PE (Kanzinger), P.O. Box 59, Louisville, KY 40201-0059 or email at Robert.C.Kanzinger@lrl02.uasce.army.mil. Telephone (502) 315-6873 or facsimile (502) 315-6864.

SUPPLEMENTARY INFORMATION: 1. Background: Lock and Dam 10 was built between 1902 and 1907. During its construction, in 1905, a storm event washed out the left-descending bank (west bank) at the abutment of the lock. To close the gap created by this washout, an auxiliary dam was built between the outer lock wall and the new bank. That auxiliary dam was built on a timber cribbing foundation, with the intention of replacing the facility in the near future. The timber cribbing remains at the base of the auxiliary dam today, but has been strengthened with brick and concrete toppings. The main dam has been subjected to base degradation due to the erosive force of the spill water. That damage will be repaired in the near future, as part of a separate project, with the addition of reinforcement materials at its base. The lock has not operated since July 2000, when it was closed because of leaking gates. The facility was maintained and operated by the U.S. Army Corps of Engineers (Corps) until 1985, when Kentucky River Locks and Dams 5 through 14 were leased to the Commonwealth of Kentucky. In December 1996, the facility ownership was transferred to the Commonwealth of Kentucky and has been managed since then by the Kentucky River Authority (KPA).

2. Proposed Action: The Corps, in cooperation with the local sponsor, KRA, is conducting this DEIS under guidelines set forth by the National Environmental Policy Act (NEPA) of 1970. The Corps and KRA propose to stabilize and renovate Lock and Dam 10 and to raise the main and auxiliary dams, which would increase water storage capacity of the pool. Water supply has become an increasingly important issue in the growing metropolitan area that the pool water resources serve.

3. Action Alternatives Considered: Considered action alternatives include: Replace the existing dam with a new dam four feet higher than the existing dam in close proximity and upstream of the existing dam; and, replace the existing dam with a new dam six feet higher in close proximity and upstream of the existing dam.

4. The No-Action Alternative: The consequences of taking no action will also be considered.

5. Scoping Process: The Corps and KRA is asking, herein and elsewhere, for public input regarding pertinent issues that need to be addressed in the DEIS. The first public scoping meeting was held in November 2002 at Boonesborough State Park, and additional scooping meetings will be held in the project are for the purpose of obtaining input from public officials and citizens. A comprehensive mailing list has been assembled, including Federal, state and local agencies, offices and individuals. The list has been and will be used to notify interested parties of opportunities to provide input to the scoping process. Pertinent issues identified, thus far, include the potential for increased frequency of flooding of small agricultural fields along the river, loss of raparian habitat areas, effects to the aquatic habitat, and potential increased frequency of flooding of nearby roads and bridges. A 45-day public review period will be provided for individuals and agencies to review and comment on the DEIS. All interested parties are encouraged to respond to this notice and provide a current address should they wish to be notified of the date of scoping meetings and for receipt of the DEIS for review and comment.

6. Availability: The DEIS is expected to be available for public review and comment by May 2005. Notice of availability will be published in the Federal Register, as well as mailed to all recipients on the mailing list.

Robert A. Rowlette, Jr.,
Colonel, Corps of Engineers, Commander and District Engineer.

[FR Doc. 04-1403 Filed 1-22-04; 8:45 am]

BILLING CODE 3710-JB-M